DEPARTMENT OF DEFENSE

Office of the Secretary

Proposed Collection; Comment Request

AGENCY: Office of the Assistant Secretary of Defense (Health Affairs) DoD.

ACTION: Notice.

SUMMARY: In compliance with section 3506(c)(2)(A) of the Paperwork Reduction Act of 1995, the Office of the Assistant Secretary of Defense (Health Affairs) announces a proposed information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including the use of automated collection techniques or other forms of information technology.

DATES: Written comments and recommendations on the continuing information collection should be sent to Lt Col Michael Hartzell, 5111 Leesburg Pike, Suite 810, Falls Church, VA, 22041-3206.

FOR FURTHER INFORMATION CONTACT: To request more information on this information collection, please write to the above address or contact LTC Michael Hartzell, by calling 703 681-3636 or e-mail at michael.hartzell@tma.osd.mil.

Title Associated Form and OMB Number: Viability of TRICARE Standard Survey; OMB Number 0720—[to Be Determined].

Needs and Uses: Data will be collected from civilian providers to determine how many are/are not accepting TRICARE Standard patients and to ascertain the reasons. Information will be used to assess the scope and nature of any problems related to beneficiary access to care.

Affected Public: Individuals.

Annual Burden Hours: 2340.

Number of Respondents: 9,360.

Responses per Respondent: 1.

Average Burden per Response: 15 minutes.

Frequency: Annual.

SUPPLEMENTARY INFORMATION: The Health Program Analysis and Evaluation Directorate (HPAE) under authority of the Office of the Assistant Secretary of defense (Health Affairs)/TRICARE Management Activity will undertake an evaluation of the Department of Defense's TRICARE Standard healthcare option. HPAE will collect and analyze data that are necessary to meet the requirements outlined in section 723 of the National Defense Authorization Act for Fiscal Year 2004. Activities include the collection and analysis of data obtained from civilian physicians (M.D.s & D.O.s) within U.S. TRICARE market areas. Specifically, telephone surveys of civilian providers will be conducted in the TRICARE market areas to determine how many healthcare providers are accepting new patients under TRICARE Standard in each market area. The telephone surveys will be conducted in at least 20 TRICARE market areas in the United States each fiscal year until all market areas in the United States have been surveyed. In prioritizing the order in which these market areas will be surveyed, representatives of TRICARE beneficiaries will be consulted in identifying locations with historical evidence of access-to-care problems under TRICARE Standard. These areas will receive priority in surveying. Information will be collected telephonically to determine the number of healthcare providers that currently accept TRICARE Standard beneficiaries as patients under TRICARE Standard in each market area. Providers will also be asked if they would accept TRICARE Standard beneficiaries as new patients under TRICARE Standard. Analyses and reports will include all legislative requirements.

Dated: April 7, 2004.
L.M. Bynum,
Alternate OSD Federal Register Liaison Officer, Department of Defense.

[FR Doc. 04-8256 Filed 4-12-04; 8:45 am]

BILLING CODE 5001-06-M